DEPARTMENT OF TRANSPORTATION

Federal Aviation Administration

14 CFR Part 95

[Docket No.30742; Amdt. No. 489]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, September 23, 2010.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC.
John M. Allen,
Director, Flight Standards Service.

Adoption of the Amendment

Accordingly, pursuant to the authority delegated to me by the Administrator, part 95 of the Federal Aviation Regulations (14 CFR part 95) is amended as follows effective at 0901 UTC, September 23, 2010.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 489 Effective Date September 23, 2010]
From | To | MEA | MAA
§ 95.3000 Low Altitude RNAV Routes
§ 95.3269 RNAV Route T269 Is Amended To Read in Part
ANNETTE ISLAND, AK VOR/DME 17500 | TOKEE, AK FIX | 5700 |
TOKEE, AK FIX | FLIPS, AK FIX | 6300 | 17500
FLIPS, AK FIX | BIORKA ISLAND, AK VORTAC | 6000 | 17500
BIORKA ISLAND, AK VORTAC | SALIS, AK FIX | 5100 | 17500
SALIS, AK FIX | CENTA, AK FIX | *6200 | 17500
*2000—MOCA
CENTA, AK FIX | YAKUTAT, AK VOR/DME | 2000 | 17500
YAKUTAT, AK VOR/DME | MALAS, AK FIX | 2400 | 17500
MALAS, AK FIX | KATAT, AK FIX | *9000 | 17500
*5300—MOCA
KATAT, AK FIX | CASEL, AK FIX | *7000 | 17500
*3400—MOCA
CASEL, AK FIX | *JOHNSTONE POINT, AK VOR/DME | 4800 | 17500
*4800—MCA JOHNSTONE POINT, AK VOR/DME, E BND
JOHNSTONE POINT, AK VOR/DME | *FIMIB, AK FIX | 3200 | 17500
*4500—MCA FIMIB, AK FIX, W BND
FIMIB, AK FIX | ANCHORAGE, AK VOR/DME | 8200 | 17500
ANCHORAGE, AK VOR/DME | YONEK, AK FIX | 3000 | 17500
YONEK, AK FIX | TORTE, AK FIX | 4200 | 17500
*10000—MCA TORTE, AK FIX, W BND
TORTE, AK FIX | VEILL, AK FIX | 10600 | 17500
*10000—MCA VEILL, AK FIX, E BND
VEILL, AK FIX | SPARREVOHN, AK VOR/DME | 6000 | 17500
SPARREVOHN, AK VOR/DME | ACRAN, AK FIX | 5200 | 17500
ACRAN, AK FIX | VIDDA, AK FIX | 6000 | 17500
VIDDA, AK FIX | BETHEL, AK VORTAC | 2100 | 17500
§ 95.3280 RNAV Route T280 Is Amended To Read in Part
FLIPS, AK FIX | LEVEL ISLAND, AK VOR/DME | *7000 | 17500
*6300—MOCA
§ 95.4000 High Altitude RNAV Routes
§ 95.4026 RNAV Route Q26 Is Amended To Read in Part
WALNUT RIDGE, AR VORTAC | DEVAC, AL FIX | *20000 | 33000
*18000—GNSS MEA
*DME/DME/IRU MEA

From | To | MEA
§ 95.6001 Victor Routes-U.S.
§ 95.6003 VOR Federal Airway V3 Is Amended To Read in Part
GORDONSVILLE, VA VORTAC | LURAY, VA FIX | 6100
LURAY, VA FIX | *KERRE, VA FIX | **6000
*7000—MRA
**5000—MOCA
*KERRE, VA FIX | MARTINSBURG, WV VORTAC | **6000
*7000—MRA
**5000—MOCA
§ 95.6005 VOR Federal Airway V5 Is Amended To Read in Part
VIENNA, GA VORTAC | DUBLIN, GA VORTAC | 2100
§ 95.6006 VOR Federal Airway V6 Is Amended To Read in Part
LEECS, IL FIX | DUPAGE, IL VOR/DME | *4000
*2700—GNSS MEA
§ 95.6008 VOR Federal Airway V8 Is Amended To Read in Part
MOLINE, IL VORTAC | TRIDE, IL FIX | 3300
BRIGGS, OH VOR/DME | ATWOO, OH FIX | *4000
*3100—MOCA
*3100—GNSS MEA
§ 95.6012 VOR Federal Airway V12 Is Amended To Read in Part
PANHANDLE, TX VORTAC | MITBEE, OK VORTAC | *5500
*5000—MOCA
§ 95.6017 VOR Federal Airway V17 Is Amended To Read in Part
ARDMORE, OK VORTAC | WILL ROGERS, OK VORTAC | 3100
§ 95.6029 VOR Federal Airway V29 Is Amended To Read in Part
SNOW HILL, MD VORTAC | *SALISBURY, MD VORTAC | **2000
*5000—MCA SALISBURY, MD VORTAC, N BND
**1500—MOCA
SALISBURY, MD VORTAC | *EZIZI, DE FIX | 5000
*7000—MCA EZIZI, DE FIX, N BND
EZIZI, DE FIX | *LAFLN, DE FIX | **7000
*7000—MCA LAFLN, DE FIX, S BND
**5000—GNSS MEA
LAFLN, DE FIX | SMYRNA, DE VORTAC | 1800
SMYRNA, DE VORTAC | #DUPONT, DE VORTAC | *10000
*1800—GNSS MEA
#DUPONT R-181 UNUSABLE BELOW 10000
§ 95.6036 VOR Federal Airway V36 Is Amended To Read in Part
#ELMIRA, NY VOR/DME | HAWLY, PA FIX | *4500
*GNSS MEA
#ELMIRA R-122 UNUSABLE BELOW FL180
§ 95.6037 VOR Federal Airway V37 Is Amended To Read in Part
COLUMBIA, SC VORTAC | RICHE, SC FIX | *4000
*2400—MOCA
*2400—GNSS MEA
#CLARKSBURG, WV VOR/DME | TEDDS, WV FIX | *4000
*3200—MOCA
#CLARKSBURG R-033 UNUSABLE BYD 23NM
TEDDS, WV FIX | AKSAR, PA FIX | *4000
*4000—GNSS MEA
AKSAR, PA FIX | ELLWOOD CITY, PA VORTAC | *4000
*3200—MOCA
§ 95.6038 VOR Federal Airway V38 Is Amended To Read in Part
MOLINE, IL VORTAC | TRIDE, IL FIX | 3300
§ 95.6039 VOR Federal Airway V39 Is Amended To Read in Part
GORDONSVILLE, VA VORTAC | LURAY, VA FIX | 6100
LURAY, VA FIX | *KERRE, VA FIX | **6000
*7000—MRA
**5000—MOCA
*KERRE, VA FIX | MARTINSBURG, WV VORTAC | **6000
*7000—MRA
**5000—MOCA
§ 95.6041 VOR Federal Airway V41 Is Amended To Read in Part
CUTTA, OH FIX | YOUNGSTOWN, OH VORTAC | *5000
*3600—GNSS MEA
§ 95.6043 VOR Federal Airway V43 Is Amended To Read in Part
YOUNGSTOWN, OH VORTAC | ERIE, PA VORTAC | *5000
*3000—GNSS MEA
§ 95.6054 VOR Federal Airway V54 Is Amended To Read in Part
RAEFO, NC FIX | FAYETTEVILLE, NC VOR/DME | *5000
*2400—GNSS MEA
§ 95.6063 VOR Federal Airway V63 Is Amended To Read in Part
#JANESVILLE, WI VOR/DME | *DEBOW, WI FIX | **4000
*10000—MRA
**3000—GNSS MEA
#JANESVILLE R-044 UNUSABLE, USE BADGER R-226
*DEBOW, WI FIX | RASTT, WI FIX | **4000
*10000—MRA
**4000—GNSS MEA
RASTT, WI FIX | BADGER, WI VORTAC | *3000
*3000—GNSS MEA
OSHKOSH, WI VORTAC | #STEVENS POINT, WI VORTAC | *4000
*3000—MOCA
*3000—GNSS MEA
#WAUSAU R-171 UNUSABLE BYD 8 NM, USE STEVENS POINT R-354
STEVENS POINT, WI VORTAC | TAYUY, WI FIX | 3100
TAYUY, WI FIX | #WAUSAU, WI VORTAC | 3100
#WAUSAU R-171 UNUSABLE BYD 8 NM, USE STEVENS POINT R-354
§ 95.6070 VOR Federal Airway V70 Is Amended To Read in Part
VIENNA, GA VORTAC | *OCONE, GA FIX | **3000
*3000—MRA
**2100—MOCA
§ 95.6075 VOR Federal Airway V75 Is Amended To Read in Part
ATWOO, OH FIX | BRIGGS, OH VOR/DME | *4000
*3100—MOCA
*3100—GNSS MEA
§ 95.6081 VOR Federal Airway V81 Is Amended To Read in Part
#BLACK FOREST, CO VORTAC | *HOHUM, CO FIX | **10000
*9500—MRA
**GNSS MEA
#BLACK FOREST R-325 UNUSABLE
§ 95.6082 VOR Federal Airway V82 Is Amended To Read in Part
BAUDETTE, MN VOR/DME | BRAINERD, MN VORTAC | *7000
*3400—MOCA
*3500—GNSS MEA
§ 95.6086 VOR Federal Airway V86 Is Amended To Read in Part
SHERIDAN, WY VORTAC | WETON, WY FIX | #*10900
*7000—MOCA
*7000—GNSS MEA
#MEA IS ESTABLISHED WITH A GAP IN NAVIGATION SIGNAL COVERAGE
§ 95.6116 VOR Federal Airway V116 Is Amended To Read in Part
U.S. CANADIAN BORDER | *TRACE, OH FIX | **7000
*11000—MRA
**1900—MOCA
§ 95.6117 VOR Federal Airway V117 Is Amended To Read in Part
BELLAIRE, OH VOR/DME | WISKE, WV FIX | 3300
§ 95.6127 VOR Federal Airway V127 Is Amended To Read in Part
BRADFORD, IL VORTAC | *WYNET, IL FIX | 2700
*3300—MRA
§ 95.6136 VOR Federal Airway V136 Is Amended To Read in Part
SOUTH BOSTON, VA VORTAC | *ALDAN, NC FIX | 2600
*3000—MRA
*ALDAN, NC FIX | RALEIGH/DURHAM, NC VORTAC | 2600
*3000—MRA
§ 95.6139 VOR Federal Airway V139 Is Amended To Read in Part
CAPE CHARLES, VA VORTAC | SNOW HILL, MD VORTAC | 2000
§ 95.6140 VOR Federal Airway V140 Is Amended To Read in Part
MONTEBELLO, VA VOR/DME | HOODE, VA FIX | 6100
HOODE, VA FIX | CASANOVA, VA VORTAC | 3200
§ 95.6143 VOR Federal Airway V143 Is Amended To Read in Part
LYNCHBURG, VA VORTAC | *ELLON, VA FIX
| N BND | 5000
| S BND | 3200
*4100—MCA ELLON, VA FIX, N BND
ELLON, VA FIX | *CLYFF, VA FIX | 4600
*6000—MCA CLYFF, VA FIX, N BND
CLYFF, VA FIX | MONTEBELLO, VA VOR/DME | 6400
MONTEBELLO, VA VOR/DME | LURAY, VA FIX | 6000
LURAY, VA FIX | *KERRE, VA FIX | **6000
*7000—MRA
**5000—MOCA
*KERRE, VA FIX | MARTINSBURG, WV VORTAC | **6000
*7000—MRA
**5000—MOCA
§ 95.6144 VOR Federal Airway V144 Is Amended To Read in Part
MORGANTOWN, WV VORTAC | KESSEL, WV VOR/DME | 5700
§ 95.6155 VOR Federal Airway V155 Is Amended To Read in Part
WIPER, NC FIX | LAWRENCEVILLE, VA VORTAC | *9000
*2000—MOCA
*2300—GNSS MEA
§ 95.6157 VOR Federal Airway V157 Is Amended To Read in Part
TAR RIVER, NC VORTAC | #LAWRENCEVILLE, VA VORTAC | *4500
*2500—MOCA
#LAWRENCEVILLE R-177 UNUSABLE BELOW 6000, USE TAR RIVER R-354
§ 95.6159 VOR Federal Airway V159 Is Amended To Read in Part
VERO BEACH, FL VORTAC | *PRESK, FL FIX | 3000
*2500—MRA
*PRESK, FL FIX | ORLANDO, FL VORTAC | 2000
*2500—MRA
§ 95.6175 VOR Federal Airway V175 Is Amended To Read in Part
PARK RAPIDS, MN VOR/DME | BLUOX, MN FIX
| S BND | 3500
| NW BND | 7000
BLUOX, MN FIX | ROSEAU, MN VOR/DME | *7000
*2800—MOCA
*3300—GNSS MEA
§ 95.6177 VOR Federal Airway V177 Is Amended To Read in Part
#STEVENS POINT, WI VORTAC | TAYUY, WI FIX | #3100
#WAUSAU R-171 UNUSABLE BYD 8 NM, USE STEVENS POINT R-354
TAYUY, WI FIX | #WAUSAU, WI VORTAC | 3100
#WAUSAU R-171 UNUSABLE BYD 8 NM, USE STEVENS POINT R-354
§ 95.6190 VOR Federal Airway V190 Is Amended To Read in Part
BARTLESVILLE, OK VOR/DME | OSWEGO, KS VORTAC | 2500
§ 95.6191 VOR Federal Airway V191 Is Amended To Delete
GRAND RAPIDS, MN VOR/DME | LAKE BEMIDJI, MN VORTAC | 3400
LAKE BEMIDJI, MN VORTAC | THIEF RIVER FALLS, MN VOR/DME | 3000
THIEF RIVER FALLS, MN VOR/DME | GRAND FORKS, ND VOR/DME | 2800
§ 95.6225 VOR Federal Airway V225 Is Amended To Read in Part
KEY WEST, FL VORTAC | RIGOR, FL FIX | 1700
RIGOR, FL FIX | MARCI, FL FIX | *4000
*1400—MOCA
*1700—GNSS MEA
§ 95.6266 VOR Federal Airway V266 Is Amended To Read in Part
SOUTH BOSTON, VA VORTAC | #LAWRENCEVILLE, VA VORTAC | *3000
*2000—MOCA
*2300—GNSS MEA
#LAWRENCEVILLE R-269 UNUSABLE BELOW 9000
#LAWRENCEVILLE, VA VORTAC | FRANKLIN, VA VORTAC | 2000
#LAWRENCEVILLE R-106 UNSUABLE BELOW 7500
FRANKLIN, VA VORTAC | SUNNS, NC FIX | *2000
*1500—MOCA
§ 95.6269 VOR Federal Airway V269 Is Amended To Read in Part
WELLS, NV VOR | *TWIN FALLS, ID VORTAC | **13000
*7500—MCA TWIN FALLS, ID VORTAC, S BND
**11000—MOCA
**11000—GNSS MEA
§ 95.6280 VOR Federal Airway V280 Is Amended To Read in Part
PANHANDLE, TX VORTAC | MITBEE, OK VORTAC | *5500
*5000—MOCA
§ 95.6291 VOR Federal Airway V291 Is Amended To Read in Part
WINSLOW, AZ VORTAC | FLAGSTAFF, AZ VOR/DME | *10100
*10100—MOCA
§ 95.6296 VOR Federal Airway V296 Is Amended To Read in Part
RAEFO, NC FIX | FAYETTEVILLE, NC VOR/DME | *5000
*2400—GNSS MEA
§ 95.6369 VOR Federal Airway V369 Is Amended To Read in Part
NAVASOTA, TX VORTAC | GROESBECK, TX VOR/DME | 2300
§ 95.6393 VOR Federal Airway V393 Is Amended To Read in Part
NOGALES, AZ VOR/DME | U.S. MEXICAN BORDER | *13000
*8800—MOCA
§ 95.6426 VOR Federal Airway V426 Is Amended To Read in Part
CARLETON, MI VORTAC | *AMRST, OH FIX | **4000
*4000—MRA
**3000—GNSS MEA
§ 95.6427 VOR Federal Airway V427 Is Amended To Read in Part
MONROE, LA VORTAC | *PECKS, MS FIX | **5000
*2800—MRA
**1900—MOCA
**2000—GNSS MEA
*PECKS, MS FIX | #JACKSON, MS VORTAC | 2000
*2800—MRA
#JACKSON R-281 UNUSABLE BEYOND 40 NM
§ 95.6430 VOR Federal Airway V430 Is Amended To Read in Part
GRAND FORKS, ND VOR/DME | THIEF RIVER FALLS, MN VOR/DME | 2900
THIEF RIVER FALLS, MN VOR/DME | GRAND RAPIDS, MN VOR/DME | *7000
*3400—GNSS MEA
§ 95.6443 VOR Federal Airway V443 Is Amended To Read in Part
WISKE, WV FIX | NEWCOMERSTOWN, OH VOR/DME | 3300
§ 95.6454 VOR Federal Airway V454 Is Amended To Read in Part
#LAWRENCEVILLE, VA VORTAC | JUNKI, VA FIX | *6000
*1900—MOCA
*2000—GNSS MEA
#LAWRENCEVILLE R-059 UNUSABLE, USE HOPEWELL R-237
JUNKI, VA FIX | HOPEWELL, VA VORTAC | 2000
§ 95.6469 VOR Federal Airway V469 Is Amended To Read in Part
LYNCHBURG, VA VORTAC | RADIA, VA FIX | 4600
RADIA, VA FIX | RELEE, VA FIX | 6000
RELEE, VA FIX | EXRAS, VA FIX | *8000
*5100—MOCA
*5200—GNSS MEA
EXRAS, VA FIX | BOIER, WV FIX | *10000
*6900—MOCA
*6900—GNSS MEA
BOIER, WV FIX | ELKINS, WV VORTAC | 6800
#JOHNSTOWN, PA VORTAC | ST THOMAS, PA VORTAC | *5000
*5000—GNSS MEA
#JOHNSTOWN R-125 UNUSABLE
§ 95.6507 VOR Federal Airway V507 Is Amended To Read in Part
ARDMORE, OK VORTAC | WILL ROGERS, OK VORTAC | 3100
§ 95.6523 VOR Federal Airway V523 Is Amended To Read in Part
YOUNGSTOWN, OH VORTAC | ERIE, PA VORTAC | *5000
*3000—GNSS MEA
§ 95.6537 VOR Federal Airway V537 Is Amended To Read in Part
VERO BEACH, FL VORTAC | *PRESK, FL FIX | 3000
*2500—MRA
§ 95.6573 VOR Federal Airway V573 Is Amended To Read in Part
WILL ROGERS, OK VORTAC | *ALEXX, OK FIX | 3100
*7000—MRA
§ 95.6611 VOR Federal Airway V611 Is Amended To Read in Part
#BLACK FOREST, CO VORTAC | LUFSE, CO FIX | *10000
*GNSS MEA
#BLACK FOREST R-023 UNUSABLE
LUFSE, CO FIX | *JEFEL, CO FIX | #10500
*10500—MRA
#GNSS MEA
*JEFEL, CO FIX | **LIMEX, CO FIX | #8500
*10500—MRA
**9000—MRA
§ 95.6615 VOR Federal Airway V615 Is Amended To Read in Part
DUFFI, NC FIX | HOPEWELL, VA VORTAC | *5000
*2500—MOCA
*2500—GNSS MEA
§ 95.6625 VOR Federal Airway V625 Is Added To Read
U.S. MEXICAN BORDER | NOGALES, AZ VOR/DME | *10000
*9500—MOCA
§ 95.6311 ALASKA VOR Federal Airway V311 Is Amended To Read in Part
TOKEE, AK FIX | FLIPS, AK FIX | #*7500
*6300—MOCA
#MEA IS ESTABLISHED WITH A GAP IN NAVIGATION SIGNAL COVERAGE
§ 95.6319 ALASKA VOR Federal Airway V319 Is Amended To Read in Part
YAKUTAT, AK VOR/DME | MALAS, AK FIX
| E BND | 2400
| W BND | 10000
MALAS, AK FIX | KATAT, AK FIX | #*10000
*4300—MOCA
#MEA IS ESTABLISHED WITH A GAP IN NAVIGATION SIGNAL COVERAGE
KATAT, AK FIX | CASEL, AK FIX | *7000
*3400—MOCA
CASEL, AK FIX | *JOHNSTONE POINT, AK VOR/DME | 4800
*4800—MCA JOHNSTONE POINT, AK VOR/DME, E BND
JOHNSTONE POINT, AK VOR/DME | *EDELE, AK FIX | 4400
*8000—MCA EDELE, AK FIX, W BND
EDELE, AK FIX | ANCHORAGE, AK VOR/DME | *13000
*7500—MOCA
*7500—GNSS MEA
YONEK, AK FIX | *TORTE, AK FIX
| NW BND | **12000
| SE BND | **6000
*8100—MCA TORTE, AK FIX, W BND
**4100—MOCA
TORTE, AK FIX | *VEILL, AK FIX | **12000
*10000—MCA VEILL, AK FIX, E BND
**10600—MOCA
VEILL, AK FIX | SPARREVOHN, AK VOR/DME
| E BND | 12000
| W BND | 6200
SPARREVOHN, AK VOR/DME | ACRAN, AK FIX
| W BND | 6000
| E BND | *5200
*5200—MOCA
VIDDA, AK FIX | WEEKE, AK FIX
| SW BND | *6000
| NE BND | *3000
*2100—MOCA
WEEKE, AK FIX | BETHEL, AK VORTAC | 2000
§ 95.6428 ALASKA VOR Federal Airway V428 Is Amended To Read in Part
HAINES, AK NDB | U.S. CANADIAN BORDER | *10000
*9600—MOCA
§ 95.6440 ALASKA VOR Federal Airway V440 Is Amended To Read in Part
BIORKA ISLAND, AK VORTAC | SALIS, AK FIX
| SE BND | 5100
| NW BND | 9000
SALIS, AK FIX | CENTA, AK FIX | #*9000
*2000—MOCA
#MEA IS ESTABLISHED WITH A GAP IN NAVIGATION SIGNAL COVERAGE
CENTA, AK FIX | YAKUTAT, AK VOR/DME
| SE BND | 9000
| NW BND | 2000
§ 95.6473 ALASKA VOR Federal Airway V473 Is Amended To Read in Part
LEVEL ISLAND, AK VOR/DME | FLIPS, AK FIX | *7000
*6300—MOCA
FLIPS, AK FIX | BIORKA ISLAND, AK VORTAC | 6000

From | To | MEA | MAA
§ 95.7001 Jet Routes
§ 95.7005 Jet Route J5 Is Amended To Read in Part
POWEL, OR FIX | SUMMA, WA FIX | 26000 | 45000
§ 95.7032 Jet Route J32 Is Amended To Delete
DULUTH, MN VORTAC | U.S. CANADIAN BORDER | 18000 | 45000
§ 95.7038 Jet Route J38 Is Amended To Delete
U.S. CANADIAN BORDER | DULUTH, MN VORTAC | 18000 | 45000

From | To | Distance | From
§ 95.8003 VOR Federal Airway Changeover Points Airway Segment Is Amended To Add
V12 Is Amended To Add Changeover Point
PANHANDLE, TX VORTAC | MITBEE, OK VORTAC | 46 | PANHANDLE.
V63 Is Amended To Add Changeover Point
STEVENS POINT, WI VORTAC | WAUSAU, WI VORTAC | 12 | STEVENS POINT.
V139 Is Amended To Modify Changeover Point
CAPE CHARLES, VA VORTAC | SNOW HILL, MD VORTAC | 38 | CAPE CHARLES.
V159 Is Amended To Delete Changeover Point
VERO BEACH, FL VORTAC | ORLANDO, FL VORTAC | 32 | VERO BEACH.
V177 Is Amended To Add Changeover Point
STEVENS POINT, WI VORTAC | WAUSAU, WI VORTAC | 12 | STEVENS POINT.
V280 Is Amended To Add Changeover Point
PANHANDLE, TX VORTAC | MITBEE, OK VORTAC | 46 | PANHANDLE.
V467 Is Amended To Add Changeover Point
RICHMOND, IN VORTAC | WATERVILLE, OH VOR/DME | 56 | RICHMOND.
ALASKA V428 Is Amended To Add Changeover Point
HAINES, AK NDB | WHITEHORSE, CA VOR/DME | 30 | HAINES.
V86 Is Amended To Modify Changeover Point
SHERIDAN, WY VORTAC | RAPID CITY, SD VORTAC | 100 | SHERIDAN.
§ 95.8005 Jet Routes Changeover Points Airway Segment Changeover Points
J5 Is Amended To Modify Changeover Point
LAKEVIEW, OR VORTAC | SEATTLE, WA VORTAC | 156 | LAKEVIEW.

[FR Doc. 2010-21217 Filed 8-25-10; 8:45 am]

BILLING CODE 4910-13-P